DEPARTMENT OF ENERGY

Office of Energy Efficiency and Renewable Energy; Request for Information; Weatherization Assistance Program; Sustainable Energy Resources for Consumers Grants

AGENCY: Office of Energy Efficiency and Renewable Energy, Department of Energy.

ACTION: Notice of Request for Information (RFI).

SUMMARY: The Department of Energy (DOE) is seeking information from stakeholders on a potential competitive Funding Opportunity Announcement (FOA) in support of the Sustainable Energy Resources for Consumers Grants. The authority for these Grants was created by the Energy Independence and Security Act of 2007 (“EISA”) Section 411(b).

DATES: Written comments and information are requested on or before 5 p.m. Eastern Time on Monday, March 22, 2010. The RFI was posted publicly on FedConnect on Monday, March 8, 2010.

ADDRESSES: Interested persons may submit information by the following method:

• E-mail: sustainableenergywap@hq.doe.gov. Please include “Response to Sustainable Energy Resources for Consumer Grants RFI” in the subject line of the message.

• Instructions: Responses must be provided as a Microsoft Word (.doc) attachment to the e-mail, of no more than 3 pages in length, 12 point font, 1 inch margins. Only electronic responses will be accepted.

• The Request for Information can be viewed at:

1. Go to the FedConnect Web site: https://www.fedconnect.net/.

2. Click on “Search Public Opportunities.”

3. Search by title: “Weatherization.”

4. Select the listing with issue date of 3/8/10.

5. In the Documentation section at the right side of the screen, click on “Weatherization Assistance Program Sustainable Energy Resources for Consumers Grants.”

FOR FURTHER INFORMATION CONTACT: Direct requests for additional information to Mr. Tyler Huebner, U.S. Department of Energy, Office of Weatherization and Intergovernmental Programs, E-mail: sustainableenergywap@hq.doe.gov.

SUPPLEMENTARY INFORMATION: The Request for Information text as shown below was posted on FedConnect on Monday, March 8, 2010.

DOE Request for Information (RFI)

DE-FOA-0000283

Weatherization Assistance Program

Sustainable Energy Resources for Consumers Grants

Date: March 8, 2010.

Subject: Request for Information (RFI).

Description: The Department of Energy (DOE) is seeking information from stakeholders on a potential competitive Funding Opportunity Announcement (FOA) in support of the Sustainable Energy Resources for Consumers Grants (“Sustainable Energy Grants”). The authority for these Grants was created by the Energy Independence and Security Act of 2007 (“EISA”) Section 411(b). (42 U.S.C. 6827 note). Program Manager/Area: Claire Broido Johnson/Weatherization and Intergovernmental Programs, Robert Adams/Weatherization Assistance Program (WAP).

Background

The traditional Weatherization Assistance Program (“WAP” or “the Program”) provides funds to States, the District of Columbia, the Commonwealth of Puerto Rico and other U.S territories to weatherize the homes of low income Americans. EISA Section 411(b) authorizes the Secretary to make funding available to local weatherization agencies to expand the Weatherization Assistance Program for residential buildings to include materials, benefits, and renewable and domestic energy technologies not currently covered by the Program. Section 411(b) states that for a local agency applicant to receive funding under this provision, the State weatherization agency (the grantee under the traditional WAP) must certify that the applicant has the capacity to carry out the proposed activities and that the State weatherization agency will include the project in their financial oversight of the traditional WAP.

The amount of funds used for Sustainable Energy Grants may equal up to two (2) percent of the amount of funds made available for any fiscal year under section 422 of the Energy Conservation and Production Act (42 U.S.C. 6872; the WAP authority) if those funds exceed $275 million. The American Recovery and Reinvestment Act (“ARRA” or “Recovery Act”) provided $5 billion for WAP, and FY 2009 provided $450 million ($250 million in supplemental and $200 million in base FY 2009 funding). Thus, the Department has up to $109 million available for Sustainable Energy Grants.

Purposes of the Sustainable Energy Resources for Consumers Grants

The purposes of the Sustainable Energy Resources for Consumers Grants are to:

• Expand WAP for residential buildings to include materials, benefits, and renewable and domestic energy technologies not covered by the Program;

• Work with existing partners to expand and enhance the Program.

Section 411(b)(2) states that in selecting grant recipients under this subsection, DOE shall give priority to:

(A) The expected effectiveness and benefits of the proposed project to low- and moderate-income energy consumers;

(B) The potential for replication of successful results;

(C) The impact on the health and safety and energy costs of consumers served; and

(D) The extent of partnerships with other public and private entities that contribute to the resources and implementation of the program, including financial partnerships.

The purpose of this Request for Information (RFI) is primarily to determine the interest and capacity of local weatherization agencies to apply for and implement the Sustainable Energy Grants, and the types of activities that applicants would propose; and secondarily to solicit feedback on the proposed topic area and evaluation criteria for these competitive Sustainable Energy Grants.

This is a Request for Information (RFI) and not a Funding Opportunity Announcement (FOA). DOE is not accepting applications, and is instead seeking information from local weatherization agencies, State Weatherization agencies, and other stakeholders under the potential FOA.

Request for Information (RFI) Guidelines

Responses to this RFI must be submitted by e-mail to sustainableenergywap@hq.doe.gov no later than 5 p.m. Eastern Time on March 22, 2010. Responses must be provided as a Microsoft Word (.doc) attachment to the e-mail, of no more than 3 pages in length, 12 point font, 1 inch margins. Only electronic responses will be accepted.

Parties interested in submitting a response to this RFI should first review these RFI Guidelines and the Questions below. Any information obtained as a result of this RFI is intended to be used by the Government on a non-attribution basis for program planning and funding opportunity strategy development. DOE will review and consider all responses in its formulation of program strategies in the pursuant FOA. Information or data that is restricted in any way or limited for use by the Government is not solicited and will not be considered. Responses will not be considered confidential. Do not provide confidential or proprietary information in your response. DOE will not respond to individual submissions or publish publicly a compendium of responses. This RFI serves as a one-way process for DOE to obtain feedback on its plans for Sustainable Energy Resources for Consumers Competitive Grants FOA. DOE reserves the right to not issue a FOA at the conclusion of this process.

Respondents are requested to provide the following information at the start of their response to this RFI:

• Local Weatherization Provider/State WAP Agency/Government/Company/institutional name;

• Name of Point of Contact;

• Address, phone number, and e-mail address.

A response to this RFI will not be viewed as a binding commitment to develop or pursue the project or ideas discussed. DOE may also decide at a later date to issue a FOA based on consideration of the feedback received from this RFI.

DOE will not pay for information provided under this RFI, and there is no guarantee that a project will be supported as a result of this RFI. Respondents under this RFI will not receive any additional consideration for any forthcoming solicitation. This RFI is not accepting applications for financial assistance or financial incentives. DOE has no obligation to respond to those who submit comments, and/or give any feedback on any decision made based on the comments received.

Note: There are two funding sources covered under this authority: up to $100 million from the Recovery Act, and up to $9 million from FY 2009 regular and supplemental funding. DOE is requesting information for both of these funding sources in this single RFI. For projects selected under the planned FOA that would be funded from the Recovery Act, all Federal funds would need to be expensed within three (3) years, and Recovery Act reporting requirements will be used.

Funds Restrictions

Except as identified by section 411(b) (i.e., materials, benefits, and renewable and domestic energy technologies) DOE intends for the restrictions under the WAP authorities to apply. Additionally, awards funded under the Recovery Act will be subject to the applicable ARRA provisions (e.g., application of the Davis-Bacon Act).

DOE thanks you for your assistance and comments in helping to achieve the goals of the Recovery Act and the Weatherization Program.

Request for Information Feedback Questions

Respondents need not reply to all Questions in their response. We especially request local weatherization service providers to respond to Questions 1 and 2.

Question 1: Potential Applicants, Please Comment Regarding Your Interest and Current Capacity To Successfully Implement a Sustainable Energy for Consumers Grant

Under the Recovery Act each local weatherization service provider has been asked to increase the scale of its weatherization activities with increased administrative efforts and public scrutiny. As a local weatherization service provider, do you have the capacity to administer additional DOE grant money (in the range of $5-$10 million) to weatherize additional homes under this provision?

Question 2: Potential Applicants, Please Describe What Materials, Benefits, and Renewable and Domestic Energy Technologies You Propose To Fund With a Sustainable Energy Grant

The list below is not meant to be prescriptive or comprehensive but rather to illustrate the nature and range of ideas DOE is considering.

• Durable high-R building envelope retrofits, such as high-performance walls, foundations, windows, attic ventilation, attic and basement air sealing, cool roofs, and ceiling or cathedral roof insulation;

• High-performance space conditioning system retrofits, such as air handler upgrades, ducts in conditioned space, ventilation, heating, solar ventilation pre-heat, cooling, or direct supply of combustion air;

• High-performance hot water systems, such as condensing, heat pump and solar hot water systems;

• Small-scale renewable energy systems, including

○ Solar photovoltaics.

○ Solar hot water.

○ Small-scale wind.

○ Or others as appropriate.

• Integration with utility smart-grid pilots or implementations;

• Energy usage benchmarking with feedback, either in-home or online, to the users;

• Community-Based Social Marketing (CBSM) and other behavioral approaches;

• Developing innovative buying cooperatives and bulk buying strategies to lower costs of materials;

• Engaging volunteer groups (applicants proposing an approach with volunteers must be prepared to have proper liability insurance for volunteers and dwellings).

Question 3: Please Comment on the Proposed Number and Size of Awards

DOE proposes specifically targeting these funds for a small number of high-profile, high-impact awards. DOE proposes to make 10 to 20 awards at funding levels of $5 to $10 million each.

Reminder: Only local weatherization agencies that are eligible to receive WAP funding are eligible to receive grants under this proposed FOA. A local agency applicant for the grant must be certified by its State Weatherization Program as having the capacity to conduct the proposed project and the State must exercise financial oversight over the grants to any of their agencies.

Question 4: Potential Applicants, How Do You Intend To Leverage Federal Funding With This Grant?

DOE will strongly encourage applications that plan to leverage the participation and support of multiple partners, including utilities, regional planning agencies, businesses, financial institutions, non-governmental organizations, and State energy offices.

Question 5: Potential Applicants, Do You Intend To Develop or Enhance a Revenue Model To Provide Future Sustainable Funding? If So, Please Briefly Explain

DOE believes there are multiple viable approaches to developing revenue streams from residential efficiency improvements that may be used to improve program sustainability after grant monies are exhausted. These may include revolving loan funds, utility on-bill payment and/or financing, the sale of carbon and other offsets, the sale of white tags to meet efficiency mandates, and the sale of efficiencies into forward capacity markets. DOE intends to allow maximum flexibility to applicants to demonstrate innovative models of sustainability. DOE is interested in learning whether applicants will consider using a Sustainable Energy Grant to develop or enhance a revenue model similar to these listed.

Question 6: Please Comment on the Proposed Application Structure

Proposed Application structure. Applications for the proposed FOA shall include at least the following key elements:

1. A description of how many and what kinds of units will be targeted by the program, and their geographic location. This may be a map of zones/neighborhoods that will be targeted, or a detailed text description.

2. A description of how the program will conduct outreach/marketing to customers of the program and convince them to agree to participate.

3. A description of how the weatherization will be delivered, including who will do the audits and contract work.

4. A description of how savings from weatherization will be monitored and verified.

5. A description of how the program will be financed, including both leveraged funds and alternate revenue streams as discussed above. This section of the application should also include a discussion of the sustainability of the program after the grant monies are exhausted.

6. An implementation plan describing the overall execution of the program, including a detailed timeline and milestones at each stage.

7. Letters of commitment from all partners contributing project funds, and project support letters from an executive officer from all key partners.

Applicants will be encouraged to add further discussion as necessary, including an analysis of key market barriers to retrofits in their local jurisdiction, local resources other than funding, a description of the applicant's historical work in WAP and other energy efficiency programs, and any other relevant information.

DOE will be conducting a formal independent evaluation of the projects funded with Sustainable Energy Grants, and recipients under this proposed FOA would need to cooperate with the collection of information for assessment. Recipients will be expected to complete a Project Final Report which will document the project's achievements, the steps that were undertaken through the project's processes, and lessons learned that can help DOE support replication of success.

Question 7: Please Comment on the Proposed Merit Review Criteria

Proposed Merit Review Criteria

Criterion 1: Project Impact.

Weight: [50%]

• The expected quantitative impact of the proposed project to low and moderate income energy consumers in terms of homes weatherized, cost per weatherized home, energy saved per home, emissions avoided, and jobs created.

• The potential for replication of successful results, both within the local jurisdiction in future years as well as by other local agencies and communities around the country.

• The impact on the health and safety and energy costs of consumers served.

• The extent to which the proposed project will create meaningful and sustainable market transformation, particularly after grant monies are exhausted.

Criterion 2: Project Approach.

Weight: [25%]

• The soundness of the project's management strategy, including the extent to which the proposal contains clear goals, well-defined tasks and methods, objective deliverables, and realistic schedule and milestones.

• The specifics of the outreach/marketing strategy, the funding structure, the implementation/delivery plan, and the monitoring/verification plan, and the strategy for feedback and continuous improvement of the program during its operation.

• The extent to which institutional, regulatory, or market barriers have been identified and the project includes reasonable approaches to overcoming those barriers.

• The extent to which the application demonstrates the ability to fulfill requirements of the Recovery Act, including Davis-Bacon, Buy American, and reporting capabilities (if Recovery Act funding is used).

• Soundness of Evaluation Strategy, including proper record keeping for DOE evaluation, and utility bill proof or actual measurements of energy savings where possible.

Criterion 3: Partnership Structure and Capabilities.

Weight: [25%]

• The extent to which roles and responsibilities of each partner/team member have been identified and are reasonably matched to their ability to successfully manage and implement the proposed project.

• The ability of the project team to complete the work successfully, including qualifications, credentials, capabilities and experience of key personnel/team members.

Question 8: Please Comment on the Proposed Program Policy Factors

Proposed Program Policy Factors

• Diversity of awards, including geographic locations, climates, and program structures.

• Benefits to low- and moderate-income families and economically distressed areas.

• The extent of partnerships with other public and private entities that contribute to the resources and implementation of the program, including financial partnerships.

• Selection of applications that promote and enhance the objectives of the Recovery Act, especially job creation and preservation, and economic recovery (if funded by the Recovery Act).

Question 9: “Moderate Income”

The WAP Program has traditionally served low-income energy users and “low-income” is defined under the WAP authorities as 200% of poverty level. DOE requests information on the income range that could be characterized as “moderate income.”

Issued in Washington, DC, on March 11, 2010.
Kathleen Hogan,
Deputy Assistant Secretary, Energy Efficiency and Renewable Energy.

[FR Doc. 2010-5799 Filed 3-16-10; 8:45 am]

BILLING CODE 6450-01-P